DEPARTMENT OF TRANSPORTATION

National Highway Traffic Safety Administration

[Docket No. NHTSA 2004-18714; Notice 2]

Volkswagen of America, Inc., Grant of Petition for Decision of Inconsequential Noncompliance

Volkswagen of America, Inc. (Volkswagen) has determined that label information on certain vehicles that it produced in 2003 and 2004 does not comply with S5.3 of 49 CFR 571.120, Federal Motor Vehicle Safety Standard (FMVSS) No. 120, “Tire selection and rims for motor vehicles other than passenger cars.” Pursuant to 49 U.S.C. 30118(d) and 30120(h), Volkswagen has petitioned for a determination that this noncompliance is inconsequential to motor vehicle safety and has filed an appropriate report pursuant to 49 CFR part 573, “Defect and Noncompliance Reports.” Notice of receipt of a petition was published, with a 30-day comment period, on August 11, 2004, in the Federal Register (69 FR 48907). NHTSA received no comments.

A total of approximately 23,017 Volkswagen Touareg MPV vehicles produced between November 3, 2003 and July 2, 2004 are affected. S5.3 of FMVSS No. 120, “Label information,” requires that the certification label or a separate tire information label shall show certain information about the tires and rims, as specified in S5.3.1 and S5.3.2. S5.3.1, “Tires,” refers to “The size designation * * * and the recommended cold inflation pressure for those tires * * * .” S5.3.2, “Rims,” refers to “The size designation * * * of Rims * * * appropriate for those tires.” Volkswagen chose to use a separate label on the affected vehicles that does not contain the rim size markings required by S5.3.2.

Volkswagen believes that the noncompliance is inconsequential to motor vehicle safety and that no corrective action is warranted. Volkswagen stated the following:

Volkswagen believes that the lack of rim size information on any of the labels does not create a risk to motor vehicle safety because any replacement tires of equivalent size to the factory installed tires or to any factory option tire would be compatible with the factory installed wheel rims. If an owner purchases wheel rims to replace those installed by Volkswagen, the selling dealer would be responsible for advising the owner on the compatible tire and wheel rim combination.

NHTSA agrees with Volkswagen that this noncompliance will not have an adverse effect on vehicle safety. Since the rim size and type are marked on the wheels of the vehicle, the information needed to ensure that the vehicles are equipped with the proper rims is readily available to potential users. Volkswagen has not received any owner or field complaints regarding the lack of wheel rim size information on the tire pressure information label. Volkswagen has fixed the problem.

In consideration of the foregoing, NHTSA has decided that the petitioner has met its burden of persuasion that the noncompliance described is inconsequential to motor vehicle safety. Accordingly, Volkswagen's petition is granted and the petitioner is exempted from the obligation of providing notification of, and a remedy for, the noncompliance.

Authority: 49 U.S.C. 30118, 30120; delegations of authority at CFR 1.50 and 501.8

Issued on: September 28, 2004.
Kenneth N. Weinstein,
Associate Administrator for Enforcement.

[FR Doc. 04-22720 Filed 10-7-04; 8:45 am]

BILLING CODE 4910-59-P